DEPARTMENT OF THE INTERIOR

Fish and Wildlife Service

The Secretary of the Interior Adopts National Framework for Survey of Boat Access Needs

AGENCY: Fish and Wildlife Service, Interior.

ACTION: Notice.

SUMMARY: The Secretary of the Interior has adopted the National Boating Infrastructure Grant Program's survey approved by the Office of Management and Budget (OMB) under control number 1018-0106 as the national framework for boating access needs required in 16 U.S.C. 777g-1 Sec. 7404(b).

ADDRESSES: For copies of the national framework survey, contact Mr. Steve Farrell, Boating Infrastructure Grants Project Officer, U.S. Fish and Wildlife Service, Division of Federal Aid, 4401 North Fairfax Drive, Suite 140, Arlington, Virginia, 22203, (703) 358-2156 or Steve_Farrell@fws.gov.

FOR FURTHER INFORMATION CONTACT: Mr. Steve Farrell (703) 358-2156.

SUPPLEMENTARY INFORMATION: Public Law 105-178, Transportation Equity Act of the 21st Century (TEA-21), June 9, 1998, requires that the Secretary of the Interior, in consultation with the States, shall adopt a national framework for a public boat access needs assessment that may be used by the States to determine the adequacy, number, location, and quality of facilities providing access to recreational waters for all sizes of recreational boats. The Secretary has delegated the responsibility for developing the national framework to the U.S. Fish and Wildlife Service (Service). The Service has received OMB approval for a survey that will serve as the national framework. State officials may obtain the survey by contacting the person listed under ADDRESSES.

Each State that conducts a public boat access needs survey shall report its findings to the Secretary for use in the development of a comprehensive national assessment of recreational boat access needs and currently available facilities. This report is expected to be presented to Congress at the end of 2003. States may fund the cost of conducting this assessment out of Sport Fish Restoration funds dedicated to motorboat access to recreational waters under 16 U.S.C. 777g-1 Sec. 7404, subsection (b)(1).

States, using data gained through these surveys, may develop plans for the construction, renovation, and maintenance of facilities for transient nontrailerable recreational vessels, and access to those facilities, to meet the needs of nontrailerable recreational vessels operating on navigable waters in the State.

The comprehensive national assessment of recreational boat access needs and facilities presented to Congress at the end of 2003 may be used to help determine future legislative action related to recreational boating access needs.

Dated: September 15, 2000.
Jamie Rappaport Clark,
Director, Fish and Wildlife Service.

[FR Doc. 00-24948 Filed 9-27-00; 8:45 am]

BILLING CODE 4310-55-M